DEPARTMENT OF COMMERCE

International Trade Administration

A-588-837

Large Newspaper Printing Presses and Components Thereof, Whether Assembled or Unassembled, from Japan: Preliminary Results of Reconsideration of Sunset Review

AGENCY: Import Administration, International Trade Administration, Department of Commerce.

SUMMARY: On April 13, 2006, the Department of Commerce (“the Department”) published the notice of initiation of the reconsideration of the sunset review of the antidumping duty order on large newspaper printing presses and components thereof, whether assembled or unassembled (LNPP), from Japan. On the basis of the notice of intent to participate, as well as adequate substantive responses and rebuttal comments filed on behalf of the domestic and respondent interested parties, the Department is conducting a full sunset review of the antidumping duty order, following the requirements of section 751(c) of the Tariff Act of 1930, as amended (“the Act”) and 19 CFR 351.218(e)(2)(i). As a result of this reconsideration of the sunset review, the Department preliminarily finds that revocation of the order on LNPP from Japan after the original sunset review period of 1996-2001 would have likely led to the continuation or recurrence of dumping at the levels listed below in the section entitled “Preliminary Results of Review.”

EFFECTIVE DATE: November 6, 2006.

FOR FURTHER INFORMATION CONTACT: David Goldberger, Kate Johnson, or Brandon Farlander, AD/CVD Operations, Import Administration, International Trade Administration, U.S. Department of Commerce, 14th Street & Constitution Avenue, NW, Washington, DC, 20230; telephone: 202-482-4136, 202-482-4929, or 202-482-0182, respectively.

SUPPLEMENTARY INFORMATION:

Background

On February 25, 2002, the Department revoked the antidumping duty order on LNPP from Japan under a five-year sunset review pursuant to section 751(c)(3)(A) of the Act, because the only domestic interested party in the sunset review, Goss Graphics Corporation (now known as Goss International Corporation (“Goss”)), withdrew its participation, and, thus, its interest in the review. See Large Newspaper Printing Presses and Components Thereof, Whether Assembled or Unassembled, from Japan (A-588-837) and Germany (A-428-821): Notice of Final Results of Five-year Sunset Reviews and Revocation of Antidumping Duty Orders, 67 FR 8522 (February 25, 2002) (“2002 Sunset Review”).

As discussed in Large Newspaper Printing Presses and Components Thereof, Whether Assembled or Unassembled, from Japan: Final Results of Changed Circumstances Review (71 FR 11590 (March 8, 2006)) (“CCR Final Results”), the Department noted that the results of the 2002 Sunset Review are unreliable because the misconduct of Tokyo Kikai Seisakusho, Ltd. and TKS (U.S.A.), Inc. (“TKS”) during the 1997-1998 administrative review of the LNPP antidumping duty order, which ultimately led to its company-specific revocation from the underlying order, substantially tainted the integrity of the proceeding, and may have significantly undermined the integrity of the sunset review results, including the parties' decisions whether or not to participate in the sunset review. TKS' misconduct before the Department was the subject of a federal district court decision and was confirmed by the 8th Circuit Court of Appeals. See id. As a result, the Department rescinded TKS' company-specific revocation and stated its intent to reconsider the 2002 Sunset Review, which revoked the order in its entirety.

On April 13, 2006, the Department published its notice of initiation of the reconsideration of the sunset review of the antidumping duty order on LNPP from Japan, in accordance with section 751(c) of the Act. See Large Newspaper Printing Presses and Components Thereof, Whether Assembled or Unassembled, From Japan: Reconsideration of Sunset Review, 71 FR 19164 (April 13, 2006) (“Notice of Initiation”).

The Department received a Notice of Intent to Participate from the domestic interested party, Goss, within the deadline specified in 19 CFR 351.218(d)(1)(i). Goss claimed interested party status under section 771(9)(C) of the Act, as a producer of the domestic like product.

The Department received a complete substantive response to the Notice of Initiation from Goss within the 30-day deadline specified in the Department's regulations under 19 CFR 351.218(d)(3)(i). The Department received complete substantive responses from respondent interested parties, Mitsubishi Heavy Industries, Ltd. (“MHI”), and TKS within the deadline specified in 19 CFR 351.218(d)(3)(i). Rebuttal comments were filed by Goss, MHI and TKS on May 26, 2006.

On June 8, 2006, the Department determined that respondent interested parties accounted for more than 50 percent of exports of the subject merchandise and, therefore, submitted adequate substantive responses to the Department's Notice of Initiation. See Memorandum to Irene Darzenta Tzafolias, Acting Director, AD/CVD Operations, Office 2; Re: Adequacy Determination in the Reconsideration of Sunset Review on Large Newspaper Printing Presses and Components Thereof, Whether Assembled or Unassembled, from Japan. In accordance with 19 CFR 351.218(e)(2)(i), the Department determined to conduct a full sunset review of this antidumping duty order.¹

¹ The 2002 Sunset Review was conducted on an expedited basis because only the domestic interested party, Goss, submitted a response. Nevertheless, in reconsidering the 2002 Sunset Review, the Department has determined that it is appropriate to conduct a new review applying the standard sunset review procedures and allowing all interested parties an opportunity to comment.

On June 28, 2006, MHI requested that the Department reconsider its adequacy determination issued on June 8, 2006, because it claimed that Goss was not a domestic interested party. On July 18, 2006, the Department requested additional information from Goss with respect to its status as a domestic producer during the POR and subsequently through November 30, 2001, which includes the period during which the original sunset review would have been conducted. Goss responded to the Department's request on August 1, 2006. MHI and TKS submitted comments on Goss' submission on August 31, 2006. Goss responded to those comments on October 2, 2006, and MHI submitted additional comments on October 6, 2006.

Scope of the Order

The products covered by the scope of the order are large newspaper printing presses, including press systems, press additions and press components, whether assembled or unassembled, whether complete or incomplete, that are capable of printing or otherwise manipulating a roll of paper more than two pages across. A page is defined as a newspaper broadsheet page in which the lines of type are printed perpendicular to the running of the direction of the paper or a newspaper tabloid page with lines of type parallel to the running of the direction of the paper.

In addition to press systems, the scope of the order includes the five press system components. They are: (1) a printing unit, which is any component that prints in monocolor, spot color and/or process (full) color; (2) a reel tension paster (RTP), which is any component that feeds a roll of paper more than two newspaper broadsheet pages in width into a subject printing unit; (3) a folder, which is a module or combination of modules capable of cutting, folding, and/or delivering the paper from a roll or rolls of newspaper broadsheet paper more than two pages in width into a newspaper format; (4) conveyance and access apparatus capable of manipulating a roll of paper more than two newspaper broadsheet pages across through the production process and which provides structural support and access; and (5) a computerized control system, which is any computer equipment and/or software designed specifically to control, monitor, adjust, and coordinate the functions and operations of large newspaper printing presses or press components.

A press addition is comprised of a union of one or more of the press components defined above and the equipment necessary to integrate such components into an existing press system.

Because of their size, large newspaper printing press systems, press additions, and press components are typically shipped either partially assembled or unassembled, complete or incomplete, and are assembled and/or completed prior to and/or during the installation process in the United States. Any of the five components, or collection of components, the use of which is to fulfill a contract for large newspaper printing press systems, press additions, or press components, regardless of degree of assembly and/or degree of combination with non-subject elements before or after importation, is included in the scope of the order. Also included in the scope are elements of a LNPP system, addition or component, which taken altogether, constitute at least 50 percent of the cost of manufacture of any of the five major LNPP components of which they are a part.

For purposes of the scope, the following definitions apply irrespective of any different definition that may be found in customs rulings, U.S. Customs law or the Harmonized Tariff Schedule of the United States (HTSUS): (1) the term “unassembled” means fully or partially unassembled or disassembled; and (2) the term “incomplete” means lacking one or more elements with which the LNPP is intended to be equipped in order to fulfill a contract for a LNPP system, addition or component.

This scope does not cover spare or replacement parts. Spare or replacement parts imported pursuant to a LNPP contract, which are not integral to the original start-up and operation of the LNPP, and are separately identified and valued in a LNPP contract, whether or not shipped in combination with covered merchandise, are excluded from the scope of the order. Used presses are also not subject to this scope. Used presses are those that have been previously sold in an arm's-length transaction to a purchaser that used them to produce newspapers in the ordinary course of business.

Also excluded from the scope, in accordance with the Department's determination in a previous changed circumstances review of the antidumping duty order which resulted in the partial revocation of the order with respect to certain merchandise, are elements and components of LNPP systems, and additions thereto, which feature a 22-inch cut-off, 50-inch web width and a rated speed no greater than 75,000 copies per hour. See Large Newspaper Printing Presses Components Thereof, Whether Assembled or Unassembled, from Japan: Final Results of Changed Circumstances Antidumping Duty Administrative Review and Intent to Revoke Antidumping Duty Order, In Part, 64 FR 72315 (December 27, 1999). In addition to the specifications set out in this paragraph, all of which must be met in order for the product to be excluded from the scope of the order, the product must also meet all of the specifications detailed in the five numbered sections following this paragraph. If one or more of these criteria is not fulfilled, the product is not excluded from the scope of the order.

1. Printing Unit: A printing unit which is a color keyless blanket-to-blanket tower unit with a fixed gain infeed and fixed gain outfeed, with a rated speed no greater than 75,000 copies per hour, which includes the following features:

• Each tower consisting of four levels, one or more of which must be populated.

• Plate cylinders which contain slot lock-ups and blanket cylinders which contain reel rod lock-ups both of which are of solid carbon steel with nickel plating and with bearers at both ends which are configured in-line with bearers of other cylinders.

• Keyless inking system which consists of a passive feed ink delivery system, an eight roller ink train, and a non-anilox and non-porous metering roller.

• The dampener system which consists of a two nozzle per page spraybar and two roller dampener with one chrome drum and one form roller.

• The equipment contained in the color keyless ink delivery system is designed to achieve a constant, uniform feed of ink film across the cylinder without ink keys. This system requires use of keyless ink which accepts greater water content.

2. Folder: A module which is a double 3:2 rotary folder with 160 pages collect capability and double (over and under) delivery, with a cut-off length of 22 inches. The upper section consists of three-high double formers (total of 6) with six sets of nipping rollers.

3. RTP: A component which is of the two-arm design with core drives and core brakes, designed for 50 inch diameter rolls; and arranged in the press line in the back-to-back configuration (left and right hand load pairs).

4. Conveyance and Access Apparatus: Conveyance and access apparatus capable of manipulating a roll of paper more than two newspaper broadsheets across through the production process, and a drive system which is of conventional shafted design.

5. Computerized Control System: A computerized control system, which is any computer equipment and/or software designed specifically to control, monitor, adjust, and coordinate the functions and operations of large newspaper printing presses or press components.

Further, the scope covers all current and future printing technologies capable of printing newspapers, including, but not limited to, lithographic (offset or direct), flexographic, and letterpress systems. The products covered by the scope are imported into the United States under subheadings 8443.11.10, 8443.11.50, 8443.30.00, 8443.59.50, 8443.60.00, and 8443.90.50 of the HTSUS. Large newspaper printing presses may also enter under HTSUS subheadings 8443.21.00 and 8443.40.00. Large newspaper printing press computerized control systems may enter under HTSUS subheadings 8471.49.10, 8471.49.21, 8471.49.26, 8471.50.40, 8471.50.80, and 8537.10.90. Although the HTSUS subheadings are provided for convenience and customs purposes, our written description of the scope of the order is dispositive.

Analysis of Comments Received

All issues raised for the preliminary results of this reconsideration of the sunset review are addressed in the “Issues and Decision Memorandum for the Reconsideration of Sunset Review of the Antidumping Duty Order on Large Newspaper Printing Presses and Components Thereof, Whether Assembled or Unassembled, from Japan: Preliminary Results,” to David M. Spooner, Assistant Secretary for Import Administration, (“Decision Memo”), which is hereby adopted by this notice. The issues discussed in the Decision Memo include the likelihood of continuation or recurrence of dumping and the magnitude of the margin likely to have prevailed if the antidumping duty order had not been revoked. Parties can find a discussion of the issues raised in this reconsideration of the sunset review and the corresponding recommendations for these preliminary results in this public memo, which is on file in room B-099 of the main Department Building. In addition, a complete version of the Decision Memo can be accessed directly on the Web at http://ia.ita.doc.gov/frn. The paper copy and electronic version of the Decision Memo are identical in content.

Preliminary Results of Review

The Department preliminarily determines that, for purposes of this reconsideration of the sunset review, had the antidumping duty order not been revoked in the 2002 Sunset Review, revocation of the antidumping duty order on LNPP from Japan would have likely led to continuation or recurrence of dumping at the following weighted-average margins:

Manufacturers/Producers/Exporters | Weighted-Average Margin (Percent)
Mitsubishi Heavy Industries, Ltd. | 59.67
Tokyo Kikai Seisakusho, Ltd. | 51.97
All Others | 55.05

Any interested party may request a hearing within 30 days of publication of this notice in accordance with 19 CFR 351.310(c). Interested parties may submit case briefs no later than 30 days after the date of publication of this notice, in accordance with 19 CFR 351.309(c)(1)(i). Rebuttal briefs, which must be limited to issues raised in the case briefs, may be filed no later than 5 days after the case briefs, in accordance with 19 CFR 351.309(d)(1). Any hearing, if requested, will be held two days after rebuttal briefs are due, in accordance with 19 CFR 351.310(d)(1). The Department will issue a notice of final results of this reconsideration of the sunset review, which will include the results of its analysis of issues raised in any such briefs, no later than March 9, 2007.

This reconsideration of sunset review and notice are in accordance with sections 751(c), 752, and 777(i)(1) of the Act.

Dated: October 30, 2006.
David M. Spooner,
Assistant Secretary for Import Administration.

[FR Doc. E6-18670 Filed 11-3-06; 8:45 am]

BILLING CODE 3510-DS-S